DEPARTMENT OF JUSTICE

Antitrust Division

Notice Pursuant to the National Cooperative Research and Production Act of 1993—Ultrasonic Metal Welding—Enabling the All Aluminum Vehicle Joint Venture

Notice is hereby given that, on June 28, 2005, pursuant to section 6(a) of the National Cooperative Research and Production Act of 1993, 15 U.S.C. 4301 et seq. (“the Act”), Ultrasonic Metal Welding-Enabling the All Aluminum Vehicle Joint Venture (“USW Project”) has filed written notifications simultaneously with the Attorney General and the Federal Trade Commission disclosing changes in its membership. The notification were filed for the purpose of extending the Act's provisions limiting the recovery of antitrust plaintiffs to actual damages under specified circumstances. Specifically, Branson Ultrasonics Corporation, Danbury, CT has been added as a party to this venture, and American Technologies, Inc., Danbury, CT has withdrawn as a party to this venture.

No other changes have been made in either the membership or planned activity of the group research project. Membership in this group research project remains open, and USW Project intends to file additional written notification disclosing all changes in membership.

On August 6, 2003, USW Project filed its original notification pursuant to section 6(a) of the Act. The Department of Justice published a notice in the Federal Register pursuant to section 6(b) of the Act on September 8, 2003 (68 FR 52959).

Dorothy B. Fountain,
Deputy Director of Operations, Antitrust Division.

[FR Doc. 05-15300 Filed 8-2-05; 8:45 am]

BILLING CODE 4410-11-M